DEPARTMENT OF ENERGY

[DE-PS07-03ID14504]

Idle Reduction Technology Demonstration and Information Dissemination Solicitation

AGENCY: Idaho Operations Office, DOE.

ACTION: Notice of Competitive Financial Assistance Solicitation.

SUMMARY: The U.S. Department of Energy (DOE), Idaho Operations Office (ID) is seeking applications for cost shared demonstration and information dissemination projects of onboard idle reduction technologies on Class 7 & 8 trucks. The objective of this activity is to select and conduct projects that will produce information on the ability of several idle reduction technologies to enhance economic competitiveness, reduce energy consumption and reduce environmental impacts of the trucking industry. DOE is very interested in funding innovative, cost effective projects that demonstrate the capability of various idle reduction technologies to reduce fuel consumption and in disseminating that information to the trucking industry.

The projects are to address the data collection, analysis and dissemination needs identified by the U.S. DOE FreedomCAR and Vehicle Technologies Program and the trucking industry in the Idle Reduction Technology Demonstration Plan. This demonstration plan is located at http://www.ott.doe.gov/otu/field_ops/pdfs/demo_plan_final.pdf.

DATES: The issuance date of Solicitation Number DE-PS07-03ID14504 will be on or about April 25, 2003. An application consists of the DOE Standard Form (SF) 424 form, SF 424A form, a technical proposal, signed letters of commitment, signed letters of intent, exhibits, and other enclosures or attachments and must have an IIPS transmission time stamp not later than 3 p.m. Eastern Daylight Time on Wednesday, June 11, 2003. Late applications will not be considered.

ADDRESSES: Completed applications are required to be submitted via the U. S. Department of Energy Industry Interactive Procurement System (IIPS) at the following URL: http://e-center.doe.gov.

FOR FURTHER INFORMATION CONTACT: Elizabeth Dahl, Contracting Officer at dahlee@id.doe.gov, facsimile at (208) 526-5548, or by telephone at (208) 526-7214.

SUPPLEMENTARY INFORMATION: Approximately $250,000 of funding will be available to divide between the selected demonstration and dissemination projects in fiscal year 2003. DOE anticipates making at least two cooperative agreement awards each with a duration of twenty-four (24) months or less, with the future possibility, based on available funding, to select additional projects in fiscal year 2004, or to extend successful (as determined by DOE) demonstration projects up to an additional 24 months in order to demonstrate longer-term durability and reliability.

The solicitation is available in its full text via the Internet at the following address: http://e-center.doe.gov. The statutory authority for this program is the Federal Non-Nuclear Energy Research and Development Act of 1974 (Pub. L. 93-577). The Catalog of Federal Domestic Assistance (CFDA) Number for this program is 81.086, Conservation Research and Development.

Issued in Idaho Falls on April 25, 2003.
R.J. Hoyles,
Director, Procurement Services Division.

[FR Doc. 03-10883 Filed 5-1-03; 8:45 am]

BILLING CODE 6450-01-P